DEPARTMENT OF TRANSPORTATION

Federal Aviation Administration

14 CFR Part 97

[Docket No. 31247; Amdt. No. 3847]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 22, 2019. The compliance date for each SIAP, associated Takeoff Minimums, and ODP is specified in the amendatory provisions.

The incorporation by reference of certain publications listed in the regulations is approved by the Director of the Federal Register as of April 22, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (Air).

Issued in Washington, DC on April 5, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 23 May 2019

Akron, OH, Akron Fulton Intl, LOC RWY 25, Amdt 14A

Akron, OH, Akron Fulton Intl, NDB RWY 25, Amdt 15B

Akron, OH, Akron Fulton Intl, RNAV (GPS) RWY 25, Orig-B

Effective 20 June 2019

Deadhorse, AK, Deadhorse, RNAV (GPS) Z RWY 6, Amdt 2A

Iliamna, AK, Iliamna, RNAV (GPS) RWY 18, Amdt 2A

Quinhagak, AK, Quinhagak, RNAV (GPS) RWY 12, Amdt 1A

Wasilla, AK, Wasilla, RNAV (GPS) RWY 4, Amdt 1A

Wasilla, AK, Wasilla, RNAV (GPS) RWY 22, Orig-A

Wasilla, AK, Wasilla, Takeoff Minimums and Obstacle DP, Amdt 2B

Mobile, AL, Mobile Rgnl, ILS OR LOC RWY 15, ILS RWY 15 SA CAT I, ILS RWY 15 SA CAT II, Amdt 32

Mobile, AL, Mobile Rgnl, ILS OR LOC RWY 33, Amdt 7B

Mobile, AL, Mobile Rgnl, NDB RWY 15, Amdt 3B

Mobile, AL, Mobile Rgnl, RNAV (GPS) RWY 33, Amdt 2C

Mobile, AL, Mobile Rgnl, VOR OR TACAN-A, Amdt 2B

Blytheville, AR, Arkansas Intl, ILS OR LOC RWY 18, Amdt 2B

Corning, AR, Corning Muni, VOR-A, Amdt 2B, CANCELLED

Hope, AR, Hope Muni, NDB RWY 16, Amdt 5A, CANCELLED

Hope, AR, Hope Muni, VOR/DME RWY 22, Orig, CANCELLED

Marana, AZ, Marana Rgnl, RNAV (GPS) RWY 3, Orig-B

Bishop, CA, Bishop, VOR OR GPS-A, Amdt 6B, CANCELLED

Lincoln, CA, Lincoln Rgnl/Karl Harder Field, ILS OR LOC RWY 15, Amdt 1A

Lincoln, CA, Lincoln Rgnl/Karl Harder Field, RNAV (GPS) RWY 33, Orig-A

Los Angeles, CA, Whiteman, RNAV (GPS) RWY 12, Orig

Los Angeles, CA, Whiteman, RNAV (GPS)-C, Orig, CANCELLED

Los Angeles, CA, Whiteman, VOR-A, Amdt 2A

Mountain View, CA, Moffett Federal Afld, LOC RWY 14L, Amdt 1

Mountain View, CA, Moffett Federal Afld, RNAV (GPS) RWY 14L, Amdt 1

Mountain View, CA, Moffett Federal Afld, RNAV (GPS) RWY 14R, Amdt 1

Mountain View, CA, Moffett Federal Afld, RNAV (GPS) RWY 32L, Amdt 1

Mountain View, CA, Moffett Federal Afld, RNAV (GPS) RWY 32R, Orig

Mountain View, CA, Moffett Federal Afld, TACAN RWY 32L, Amdt 1

Mountain View, CA, Moffett Federal Afld, TACAN RWY 32R, Amdt 1

San Diego/El Cajon, CA, Gillespie Field, LOC-D, Amdt 11D

Truckee, CA, Truckee-Tahoe, RNAV (GPS) RWY 11, Amdt 1

Trinidad, CO, Perry Stokes, RNAV (GPS) RWY 3, Amdt 1B

Hartford, CT, Hartford-Brainard, Takeoff Minimums and Obstacle DP, Amdt 6

Plainville, CT, Robertson Field, RNAV (GPS) RWY 2, Orig-A

Windsor Locks, CT, Bradley Intl, Takeoff Minimums and Obstacle DP, Amdt 4

Middletown, DE, Summit, NDB-A, Amdt 8B

Middletown, DE, Summit, RNAV (GPS) RWY 17, Amdt 2B

Middletown, DE, Summit, RNAV (GPS) RWY 35, Amdt 1B

Middletown, DE, Summit, Takeoff Minimums and Obstacle DP, Amdt 2B

Dunnellon, FL, Marion County, RNAV (GPS) RWY 23, Orig-A

Tampa, FL, Peter O Knight, Takeoff Minimums and Obstacle DP, Amdt 7A

Kosrae, FM, Kosrae, NDB-A, Orig-C

Atlanta, GA, DeKalb-Peachtree, Takeoff Minimums and Obstacle DP, Amdt 3

Augusta, GA, Augusta Rgnl at Bush Field, ILS OR LOC RWY 17, Amdt 9C

Augusta, GA, Augusta Rgnl at Bush Field, RNAV (GPS) RWY 17, Amdt 2D

Augusta, GA, Augusta Rgnl at Bush Field, RNAV (GPS) RWY 26, Amdt 1B

Augusta, GA, Augusta Rgnl at Bush Field, RNAV (GPS)-A, Orig-A

Augusta, GA, Augusta Rgnl at Bush Field, RNAV (GPS) Y RWY 8, Amdt 1B

St Simons Island, GA, St Simons Island, RNAV (GPS) RWY 4, Orig-B

St Simons Island, GA, St Simons Island, RNAV (GPS) RWY 22, Orig-A

St Simons Island, GA, St Simons Island, Takeoff Minimums and Obstacle DP, Amdt 3A

St Simons Island, GA, St Simons Island, VOR RWY 4, Amdt 16A

Algona, IA, Algona Muni, RNAV (GPS) RWY 30, Amdt 1C

Des Moines, IA, Des Moines Intl, VOR RWY 23, Orig-B

Mason City, IA, Mason City Muni, RNAV (GPS) RWY 18, Amdt 2B

Mason City, IA, Mason City Muni, RNAV (GPS) RWY 36, Amdt 1C

Milford, IA, Fuller, RNAV (GPS)-B, Orig-A

Rock Rapids, IA, Rock Rapids Muni, RNAV (GPS) RWY 16, Amdt 1

Rock Rapids, IA, Rock Rapids Muni, RNAV (GPS) RWY 34, Amdt 1

Sioux City, IA, Sioux Gateway/Brig Gen Bud Day Field, ILS OR LOC RWY 13, Amdt 2D

Sioux City, IA, Sioux Gateway/Brig Gen Bud Day Field, ILS OR LOC RWY 31, Amdt 25F

Sioux City, IA, Sioux Gateway/Brig Gen Bud Day Field, RNAV (GPS) RWY 13, Orig-E

Sioux City, IA, Sioux Gateway/Brig Gen Bud Day Field, RNAV (GPS) RWY 17, Amdt 1A

Sioux City, IA, Sioux Gateway/Brig Gen Bud Day Field, RNAV (GPS) RWY 31, Orig-G

Sioux City, IA, Sioux Gateway/Brig Gen Bud Day Field, RNAV (GPS) RWY 35, Orig-A

Sioux City, IA, Sioux Gateway/Brig Gen Bud Day Field, Takeoff Minimums and Obstacle DP, Amdt 3B

Sioux City, IA, Sioux Gateway/Brig Gen Bud Day Field, VOR OR TACAN RWY 13, Amdt 18D

Storm Lake, IA, Storm Lake Muni, Takeoff Minimums and Obstacle DP, Orig-A

Centralia, IL, Centralia Muni, RNAV (GPS) RWY 18, Amdt 1B

Centralia, IL, Centralia Muni, RNAV (GPS) RWY 36, Amdt 1B

Chicago, IL, Chicago Midway Intl, RNAV (RNP) Y RWY 31C, Orig-C

Chicago, IL, Chicago O'Hare Intl, ILS OR LOC RWY 28R, ILS RWY 28R SA CAT I, ILS RWY 28R CAT II, ILS RWY 28R CAT III, Amdt 18B

Olney-Noble, IL, Olney-Noble, NDB RWY 4, Amdt 14A

Olney-Noble, IL, Olney-Noble, RNAV (GPS) RWY 4, Orig-C

Olney-Noble, IL, Olney-Noble, Takeoff Minimums and Obstacle DP, Orig-A

Pittsfield, IL, Pittsfield Penstone Muni, RNAV (GPS) RWY 13, Amdt 1

Pittsfield, IL, Pittsfield Penstone Muni, RNAV (GPS) RWY 31, Orig-A

Vandalia, IL, Vandalia Muni, RNAV (GPS) RWY 18, Orig-A

Vandalia, IL, Vandalia Muni, RNAV (GPS) RWY 36, Orig-A

Fort Wayne, IN, Smith Field, RNAV (GPS) RWY 13, Orig-A

Fort Wayne, IN, Smith Field, RNAV (GPS) RWY 23, Amdt 1A

Indianapolis, IN, Indianapolis Intl, RNAV (RNP) Z RWY 14, Amdt 2A

Richmond, IN, Richmond Muni, ILS OR LOC RWY 24, Amdt 2, CANCELLED

Sheridan, IN, Sheridan, VOR-A, Amdt 6B

Valparaiso, IN, Porter County Rgnl, RNAV (GPS) RWY 9, Amdt 1A

Chanute, KS, Chanute Martin Johnson, RNAV (GPS) RWY 36, Orig-C

Lexington, KY, Blue Grass, ILS OR LOC RWY 4, Amdt 17C

Lexington, KY, Blue Grass, ILS OR LOC RWY 22, Amdt 20C

Lexington, KY, Blue Grass, VOR-A, Amdt 9B

Richmond, KY, Central Kentucky Rgnl, VOR RWY 18, Amdt 7C

Alexandria, LA, Alexandria Intl, VOR RWY 14, Orig-D

Patterson, LA, Harry P Williams Memorial, ILS OR LOC RWY 24, Amdt 2F

Springhill, LA, Springhill, RNAV (GPS) RWY 18, Orig

Springhill, LA, Springhill, RNAV (GPS) RWY 36, Amdt 1

Bedford, MA, Laurence G Hanscom Fld, ILS OR LOC RWY 11, Amdt 27

Bedford, MA, Laurence G Hanscom Fld, ILS OR LOC RWY 29, Amdt 9

Bedford, MA, Laurence G Hanscom Fld, VOR RWY 23, Amdt 10, CANCELLED

Westfield/Springfield, MA, Westfield-Barnes Rgnl, Takeoff Minimums and Obstacle DP, Amdt 5

Baltimore, MD, Martin State, RNAV (GPS) RWY 15, Amdt 1B

Oakland, MD, Garrett County, VOR RWY 9, Orig-B

Stevensville, MD, Bay Bridge, RNAV (GPS) RWY 11, Amdt 1A

Westminster, MD, Clearview Airpark, RNAV (GPS) RWY 14, Amdt 1B

Bangor, ME, Bangor Intl, RNAV (GPS) RWY 33, Amdt 1A

Bethel, ME, Bethel Rgnl, RNAV (GPS) Y RWY 32, Orig

Bethel, ME, Bethel Rgnl, Takeoff Minimums and Obstacle DP, Orig

Frenchville, ME, Northern Aroostook Rgnl, RNAV (GPS) RWY 32, Amdt 2

Lincoln, ME, Lincoln Rgnl, RNAV (GPS) RWY 35, Amdt 1A

Rockland, ME, Knox County Rgnl, RNAV (GPS) RWY 3, Orig-B

Sanford, ME, Sanford Seacoast Rgnl, ILS OR LOC RWY 7, Amdt 5

Allegan, MI, Padgham Field, VOR RWY 29, Amdt 14A, CANCELLED

Alpena, MI, Alpena County Rgnl, ILS OR LOC RWY 1, Amdt 9B

Boyne City, MI, Boyne City Muni, RNAV (GPS) RWY 27, Orig-D

Boyne City, MI, Boyne City Muni, Takeoff Minimums and Obstacle DP, Amdt 1

East Tawas, MI, Iosco County, VOR-A, Amdt 8, CANCELLED

Holland, MI, West Michigan Rgnl, VOR-A, Amdt 10D, CANCELLED

Mackinac Island, MI, Mackinac Island, RNAV (GPS) RWY 8, Amdt 1C

Ray, MI, Ray Community, RNAV (GPS)-A, Orig-B

Ray, MI, Ray Community, Takeoff Minimums and Obstacle DP, Orig-A

Baudette, MN, Baudette Intl, Takeoff Minimums and Obstacle DP, Amdt 1A

Bemidji, MN, Bemidji Rgnl, ILS OR LOC RWY 31, Amdt 6

Ely, MN, Ely Muni, VOR/DME RWY 30, Amdt 5, CANCELLED

Jackson, MN, Jackson Muni, RNAV (GPS) RWY 13, Amdt 1B

Jackson, MN, Jackson Muni, RNAV (GPS) RWY 31, Amdt 1B

Mankato, MN, Mankato Rgnl, RNAV (GPS) RWY 4, Orig-A

Morris, MN, Morris Muni—Charlie Schmidt Fld, VOR RWY 14, Amdt 1C

Morris, MN, Morris Muni—Charlie Schmidt Fld, VOR RWY 32, Amdt 5C

Marshall, MO, Marshall Memorial Muni, NDB RWY 36, Amdt 4A, CANCELLED

Marshall, MO, Marshall Memorial Muni, RNAV (GPS) RWY 36, Amdt 3B

Columbus/W Point/Starkville, MS, Golden Triangle Rgnl, RNAV (GPS) RWY 36, Amdt 1B

Baker, MT, Baker Muni, NDB RWY 13, Orig-C, CANCELLED

Baker, MT, Baker Muni, NDB RWY 31, Orig-C, CANCELLED

Forsyth, MT, Tillitt Field, NDB RWY 27, Amdt 5, CANCELLED

Glendive, MT, Dawson Community, NDB RWY 12, Amdt 4C, CANCELLED

Malta, MT, Malta, RNAV (GPS) RWY 8, Amdt 2

Malta, MT, Malta, RNAV (GPS) RWY 26, Amdt 2

Sidney, MT, Sidney-Richland Rgnl, NDB RWY 19, Amdt 5, CANCELLED

Stevensville, MT, Stevensville, RNAV (GPS)-A, Orig-E

Twin Bridges, MT, Twin Bridges, RNAV (GPS) RWY 17, Orig-A

Twin Bridges, MT, Twin Bridges, RNAV (GPS) RWY 35, Orig-A

North Wilkesboro, NC, Wilkes County, Takeoff Minimums and Obstacle DP, Amdt 1A

Roanoke Rapids, NC, Halifax-Northampton Rgnl, RNAV (GPS) RWY 2, Amdt 2A

Roanoke Rapids, NC, Halifax-Northampton Rgnl, RNAV (GPS) RWY 20, Amdt 2A

Wallace, NC, Henderson Field, RNAV (GPS) RWY 9, Orig-A

Wallace, NC, Henderson Field, RNAV (GPS) RWY 27, Orig-B

Wilmington, NC, Wilmington Intl, ILS Y OR LOC RWY 35, Amdt 22D

Gothenburg, NE, Gothenburg Muni, RNAV (GPS) RWY 3, Orig-D

Gothenburg, NE, Gothenburg Muni, RNAV (GPS) RWY 21, Orig-D

Holdrege, NE, Brewster Field, Takeoff Minimums and Obstacle DP, Amdt 3

Lexington, NE, Jim Kelly Field, RNAV (GPS) RWY 14, Amdt 1C

Lexington, NE, Jim Kelly Field, RNAV (GPS) RWY 32, Amdt 1A

Lexington, NE, Jim Kelly Field, Takeoff Minimums and Obstacle DP, Amdt 2A

Oshkosh, NE, Garden County/King Rhiley Field, NDB RWY 12, Amdt 1D

Oshkosh, NE, Garden County/King Rhiley Field, RNAV (GPS) RWY 12, Amdt 2B

Oshkosh, NE, Garden County/King Rhiley Field, RNAV (GPS) RWY 30, Amdt 1A

Thedford, NE, Thomas County, VOR RWY 29, Amdt 1A

Manchester, NH, Manchester, ILS OR LOC RWY 35, ILS RWY 35 SA CAT I, ILS RWY 35 CAT II, ILS RWY 35 CAT III, Amdt 4

Belmar/Farmingdale, NJ, Monmouth Executive, Takeoff Minimums and Obstacle DP, Amdt 3

Caldwell, NJ, Essex County, LOC RWY 22, Amdt 4A

Caldwell, NJ, Essex County, RNAV (GPS) RWY 22, Amdt 2A

West Milford, NJ, Greenwood Lake, RNAV (GPS) RWY 24, Orig-C

Fallon, NV, Fallon Muni, RNAV (GPS)-C, Orig-A

Fallon, NV, Fallon Muni, VOR-B, Amdt 4A

Akron, NY, Akron/Jesson Field, RNAV (GPS) RWY 7, Amdt 2E

Akron, NY, Akron/Jesson Field, RNAV (GPS) RWY 25, Amdt 2E

Akron, NY, Akron/Jesson Field, Takeoff Minimums and Obstacle DP, Amdt 1A

Brockport, NY, Ledgedale Airpark, RNAV (GPS) RWY 28, Amdt 1C

Buffalo, NY, Buffalo Airfield, RNAV (GPS) RWY 6, Orig-B

Buffalo, NY, Buffalo Airfield, RNAV (GPS) RWY 24, Amdt 1B

Dansville, NY, Dansville Muni, RNAV (GPS) RWY 14, Orig-B

Elmira/Corning, NY, Elmira/Corning Rgnl, Takeoff Minimums and Obstacle DP, Amdt 10

Jamestown, NY, Chautauqua County/Jamestown, Takeoff Minimums and Obstacle DP, Amdt 6A

New York, NY, LaGuardia, RNAV (RNP) Z RWY 4, Amdt 1A

Ogdensburg, NY, Ogdensburg Intl, LOC RWY 27, Amdt 4A

Olean, NY, Cattaraugus County-Olean, LOC RWY 22, Amdt 7A

Olean, NY, Cattaraugus County-Olean, RNAV (GPS) RWY 4, Amdt 2A

Olean, NY, Cattaraugus County-Olean, RNAV (GPS) RWY 22, Amdt 2A

Poughkeepsie, NY, Hudson Valley Rgnl, ILS OR LOC RWY 6, Amdt 6E

Rome, NY, Griffiss Intl, VOR/DME RWY 15, Amdt 1, CANCELLED

Bowling Green, OH, Wood County, RNAV (GPS) RWY 10, Orig-E

Bowling Green, OH, Wood County, RNAV (GPS) RWY 28, Orig-D

Circleville, OH, Pickaway County Memorial, RNAV (GPS) RWY 1, Orig-A

Circleville, OH, Pickaway County Memorial, RNAV (GPS) RWY 19, Orig-A

Circleville, OH, Pickaway County Memorial, VOR RWY 19, Amdt 3A

Gallipolis, OH, Gallia-Meigs Rgnl, Takeoff Minimums and Obstacle DP, Amdt 3

Medina, OH, Medina Muni, RNAV (GPS) RWY 27, Orig-B

Middletown, OH, Middletown Regional/Hook Field, RNAV (GPS) RWY 5, Orig-D

Middletown, OH, Middletown Regional/Hook Field, RNAV (GPS) RWY 23, Orig-C

Newark, OH, Newark-Heath, LOC RWY 9, Orig-A

Toledo, OH, Toledo Express, Takeoff Minimums and Obstacle DP, Amdt 3

Willard, OH, Willard, VOR-A, Orig-C

Chickasha, OK, Chickasha Muni, RNAV (GPS) RWY 18, Amdt 1B

Chickasha, OK, Chickasha Muni, RNAV (GPS) RWY 36, Amdt 1B

Holdenville, OK, Holdenville Muni, RNAV (GPS) RWY 17, Orig-A

Holdenville, OK, Holdenville Muni, RNAV (GPS) RWY 35, Orig-A

Oklahoma City, OK, Wiley Post, VOR RWY 17L, Amdt 11C

Prague, OK, Prague Muni, RNAV (GPS) RWY 17, Orig-C

Prague, OK, Prague Muni, RNAV (GPS)-A, Orig-A

Tulsa, OK, Richard Lloyd Jones Jr, Takeoff Minimums and Obstacle DP, Amdt 8

Ontario, OR, Ontario Muni, NDB RWY 33, Amdt 6A, CANCELLED

Bedford, PA, Bedford County, RNAV (GPS) RWY 14, Amdt 2A

Ebensburg, PA, Ebensburg, RNAV (GPS) RWY 25, Orig-D

Somerset, PA, Somerset County, LOC RWY 25, Amdt 4C

Somerset, PA, Somerset County, NDB RWY 25, Amdt 7B

Pierre, SD, Pierre Rgnl, ILS OR LOC RWY 31, Amdt 12D

Baytown, TX, RWJ Airpark, RNAV (GPS) RWY 26, Amdt 1B, CANCELLED

Baytown, TX, RWJ Airpark, RNAV (GPS)-A, Orig

Brownsville, TX, Brownsville/South Padre Island Intl, RNAV (GPS) RWY 18, Orig-A

Brownsville, TX, Brownsville/South Padre Island Intl, VOR OR TACAN-A, Amdt 1D

Canadian, TX, Hemphill County, Takeoff Minimums and Obstacle DP, Amdt 3A

Crockett, TX, Houston County, RNAV (GPS) RWY 20, Amdt 1

Fort Hood/Killeen, TX, Robert Gray AAF, ILS OR LOC RWY 33, Amdt 1D

Fredericksburg, TX, Gillespie County, RNAV (GPS) RWY 14, Amdt 1C

Fredericksburg, TX, Gillespie County, RNAV (GPS) RWY 32, Amdt 1D

Graham, TX, Graham Muni, Takeoff Minimums and Obstacle DP, Amdt 3

Greenville, TX, Majors, ILS Y OR LOC Y RWY 17, Amdt 1A

Greenville, TX, Majors, ILS Z OR LOC Z RWY 17, Amdt 8A

Hamilton, TX, Hamilton Muni, RNAV (GPS) RWY 18, Amdt 1B

Hamilton, TX, Hamilton Muni, RNAV (GPS) RWY 36, Amdt 1B

Hondo, TX, South Texas Rgnl At Hondo, RNAV (GPS) RWY 17L, Amdt 1A

Houston, TX, Sugar Land Rgnl, ILS OR LOC RWY 35, Amdt 5

Houston, TX, Sugar Land Rgnl, VOR/DME-A, Amdt 2, CANCELLED

Levelland, TX, Levelland Muni, RNAV (GPS) RWY 17, Amdt 1B

Levelland, TX, Levelland Muni, RNAV (GPS) RWY 35, Amdt 1B

Paducah, TX, Dan E Richards Muni, RNAV (GPS) RWY 36, Orig

Paducah, TX, Dan E Richards Muni, Takeoff Minimums and Obstacle DP, Amdt 1

Paducah, TX, Dan E Richards Muni, VOR/DME OR GPS RWY 35, Amdt 1, CANCELLED

Waco, TX, TSTC Waco, ILS OR LOC RWY 17L, Amdt 13B

Wichita Falls, TX, Kickapoo Downtown, Takeoff Minimums and Obstacle DP, Amdt 3

Danville, VA, Danville Rgnl, RNAV (GPS) RWY 31, Orig-B

Newport News, VA, Newport News/Williamsburg Intl, ILS OR LOC RWY 25, Amdt 2A

Newport News, VA, Newport News/Williamsburg Intl, RNAV (GPS) RWY 25, Amdt 3A

Bremerton, WA, Bremerton National, ILS OR LOC RWY 20, Amdt 17A

Bremerton, WA, Bremerton National, RNAV (GPS) RWY 20, Amdt 1B

Seattle, WA, Seattle-Tacoma Intl, RNAV (RNP) Z RWY 34C, Amdt 2B

Seattle, WA, Seattle-Tacoma Intl, RNAV (RNP) Z RWY 34R, Amdt 1B

Shelton, WA, Sanderson Field, NDB-A, Amdt 3, CANCELLED

Baraboo, WI, Baraboo-Wisconsin Dells Rgnl, Takeoff Minimums and Obstacle DP, Amdt 1B

La Crosse, WI, La Crosse Rgnl, ILS OR LOC RWY 18, Amdt 22

La Crosse, WI, La Crosse Rgnl, VOR RWY 13, Amdt 31A, CANCELLED

La Crosse, WI, La Crosse Rgnl, VOR RWY 36, Amdt 32A, CANCELLED

Menomonie, WI, Menomonie Muni-Score Field, RNAV (GPS) RWY 9, Amdt 1

Menomonie, WI, Menomonie Muni-Score Field, RNAV (GPS) RWY 27, Amdt 1

Menomonie, WI, Menomonie Muni-Score Field, Takeoff Minimums and Obstacle DP, Amdt 2

West Bend, WI, West Bend Muni, LOC RWY 31, Orig-D, CANCELLED

Berkeley Springs, WV, Potomac Airpark, RNAV (GPS) RWY 11, Amdt 1A

Berkeley Springs, WV, Potomac Airpark, RNAV (GPS) RWY 29, Amdt 1A

Berkeley Springs, WV, Potomac Airpark, Takeoff Minimums and Obstacle DP, Amdt 2

Parkersburg, WV, Mid-Ohio Valley Rgnl, ILS OR LOC RWY 3, Amdt 14C

Parkersburg, WV, Mid-Ohio Valley Rgnl, RNAV (GPS) RWY 3, Amdt 2C

Parkersburg, WV, Mid-Ohio Valley Rgnl, RNAV (GPS) RWY 10, Orig-C

Parkersburg, WV, Mid-Ohio Valley Rgnl, RNAV (GPS) RWY 21, Amdt 2D

Parkersburg, WV, Mid-Ohio Valley Rgnl, RNAV (GPS) RWY 28, Orig-C

Parkersburg, WV, Mid-Ohio Valley Rgnl, VOR RWY 21, Amdt 17D

Casper, WY, Casper/Natrona County Intl, LOC RWY 8, Orig, CANCELLED

Powell, WY, Powell Muni, NDB RWY 31, Amdt 2C

Powell, WY, Powell Muni, RNAV (GPS) RWY 13, Orig-C

Powell, WY, Powell Muni, RNAV (GPS) RWY 31, Orig-C

[FR Doc. 2019-07830 Filed 4-19-19; 8:45 am]

BILLING CODE 4910-13-P